DEPARTMENT OF LABOR

Submission for OMB Review: Comment Request

October 23, 2006.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained from RegInfo.gov at http://www.reginfo.gov/public/do/PRAMain or by contacting Darrin King on 202-693-4129 (this is not a toll-free number)/e-mail: king.darrin@dol.gov.

Comments should be sent to Office of Information and Regulatory Affairs, Attn: OMB Desk Officer for the Mine Safety and Health Administration (MSHA), Office of Management and Budget, Room 10235, Washington, DC 20503, Telephone: 202-395-7316/Fax: 202-395-6974 (these are not a toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title: Gamma Radiation Exposure Records.

OMB Number: 1219-0039.

Type of Response: Recordkeeping.

Affected Public: Private sector: Business or other for-profit.

Number of Respondents: 3.

Estimated Number of Annual Responses: 3.

Average Response Time: 1 hour.

Estimated Annual Burden Hours: 3.

Total Annualized capital/startup costs: $0.

Total Annual Costs (operating/maintaining systems or purchasing services): $0.

Description: 30 CFR 57.5047 requires records to be kept of cumulative individual gamma radiation exposure to ensure that annual exposure does not exceed 5 Rems per year. It is intended to protect the health of workers in mines with radioactive ores.

Agency: Mine Safety and Health Administration.

Type of Review: Extension without change of currently approved collection.

Title: Mine Rescue Teams; Arrangements for Emergency Medical Assistance; and Arrangements for Transportation for Injured Persons.

OMB Number: 1219-0078.

Type of Response: Reporting; recordkeeping; and third party disclosure.

Affected Public: Private sector: Business or other for-profit.

Number of Respondents: 1,067.

Estimated Number of Annual Responses: 45,270.

Average Response Time: approximately one half (.5) hour.

Estimated Annual Burden Hours: 24,365.

Total Annualized capital/startup costs: $0.

Total Annual Costs (operating/maintaining systems or purchasing services): $648,196.

Description: Section 115(e) of the Federal Mine Safety and Health Act of 1977 (Mine Act) requires the Secretary of Labor (Secretary) to publish regulations which provide that mine rescue teams be available for rescue and recovery work to each underground mine in the event of an emergency. In addition, the costs of making advance arrangements for such teams are to be borne by the operator of each such mine.

Congress considered the ready availability of mine rescue in the event of an accident to be vital protection for miners. Congress was concerned that too often in the past, rescue efforts at a disaster site have had to await the delayed arrival of skilled mine rescue teams. In responding to Congressional concerns, the Mine Safety and Health Administration (MSHA) promulgated 30 CFR Part 49, Mine Rescue Teams. The regulations set standards related to the availability of mine rescue teams; alternate mine rescue capability for small and remote mines and mines with special mining conditions; inspection and maintenance records of mine rescue equipment and apparatus; physical requirements for mine rescue team members and alternates; and experience and training requirements for team members and alternates.

Title 30, CFR 49.2 provides that the mine operator of an underground mine establish at least two mine rescue teams to be available at all times that miners are underground, or the operator must enter into an arrangement for mine rescue services which assures that at least two teams are available at all times when miners are underground. Each team shall consist of five members and one alternate fully qualified, trained and equipped for rescue service. In addition, each member shall have been employed in an underground mine for a minimum of 1 year within the past 5 years. This standard also requires that each underground mine operator send the MSHA District Manager a statement describing the method of compliance. The statement must disclose whether the operator has independently provided mine rescue teams or entered into an agreement for mine rescue services. The name of the provider and the location of the services shall be included in the statement, a copy of the statement posted at the mine for miner's information, and a copy provided to the miner's representative if a representative has been designated.

With respect to alternative mine rescue capability for small and remote mines and mines with special mining conditions, 30 CFR 49.3 and 49.4 provide that operators of those mines may submit to MSHA for approval alternative plans for assuring mine rescue capability. The intent of these regulations is to establish the best possible rescue response available given the mining conditions unique to each mine. Although small and remote mines are not statistically less hazardous than larger non-remote mines, they are distinguished by their size and location which may effectively limit the operators' ability to establish and equip two full mine rescue teams. A critical element in determining whether a mine is small and remote is the proximity of other underground mines or existing rescue teams and stations. Likewise, it is recognized that certain mining conditions and situations present significantly lower risks of entrapment to underground miners that would justify an alternative to the mine rescue team requirements contained in 49.2.

Title 30, CFR 49.3 provides that if an underground mine is small and remote, the operator may submit an application to MSHA for approval for an alternative mine rescue capability. Applications must contain the number of miners employed underground on each shift; the distance from the two nearest mine rescue stations; the total underground employment of mines within two hours ground travel time of the operator's mine; the operator's mine fire, ground, and roof control history; the operator's established escape and evacuation plan; an evaluation of the usefulness of additional refuge chambers to supplement those which may exist; the number of miners willing to serve on a mine rescue team; an alternative plan for assuring that a suitable mine rescue capability is provided at all times when miners are underground; and other relevant information.

Title 30, CFR 49.4 provides that if an underground mine is operating under special mining conditions, the mine operator may submit alternative plans to MSHA for approval as a means of achieving full compliance with the regulation. Applications must contain an explanation of the special mining conditions, the number of miners employed underground on each shift, the distance from the two nearest mine rescue stations, the operator's mine fire history, the operator's established escape and evacuation plan, the operator's alternative plan for assuring that a suitable mine rescue capability is provided at all times when miners are underground, and other relevant information.

Title 30, CFR 49.6 provides a detailed listing of equipment that is to be provided each mine rescue station. Section 49.6(9)(b) states that rescue apparatus and equipment shall be maintained and that a person trained in the use and care of breathing apparatus shall inspect and test the apparatus at least every 30 days and shall certify by signature and date that the inspections and tests were done. The certification and the record of corrective action taken, if any, shall be maintained at the mine rescue station for a period of one year and made available to an authorized representative of the Secretary.

Title 30, CFR 49.7 requires that each team member and alternate be examined within 60 days of the beginning of the initial training, and annually thereafter by a physician who shall certify the physical fitness of the team member to perform mine rescue and recovery work for prolonged periods under strenuous conditions. The operator shall have MSHA Form 5000-3 on file for each team member certifying medical fitness and signed by the examining physician. These forms shall be kept on file at either the mine or the mine rescue station for a period of one year.

Title 30, CFR 49.8 requires that prior to serving on a mine rescue team, each member must complete an initial 20 hour course of instruction in the use, care, and maintenance of the type of breathing apparatus which will be used by the mine rescue team. All team members are required to receive 40 hours of refresher training annually which includes: (1) Sessions underground at least once each 6 months; (2) wearing and use of the breathing apparatus by team members for a period of at least 2 hours while under oxygen every 2 months; (3) where applicable, the use, care, capabilities, and limitations of auxiliary mine rescue equipment, or a different breathing apparatus; (4) advanced mine rescue training and procedures; and (5) mine map training and ventilation procedures. A record of the training received by each mine rescue team member is required to be on file at the mine rescue station for a period of one year.

Title 30, CFR 49.9 provides that each mine shall have a mine rescue notification plan outlining the procedures to be followed in notifying the mine rescue teams when there is an emergency. In addition, a copy of the plan shall be posted at the mine and a copy provided for the miners' representative, if applicable.

Title 30, CFR 75.1713-1(a) and (b) and 77.1702 (a) and (b) require that mine operators make arrangements with a licensed physician, medical service, medical clinic, or hospital and with an ambulance service to provide 24-hour emergency medical assistance and transportation.

Title 30, CFR 75.1713-1(e) and 77.1702(e) require that the mine operator post the names, titles, addresses and telephone numbers of all persons or services available for medical assistance and transportation at the mine.

This information is used by mine operators, miners, and MSHA to formulate an appropriate rescue capability within the guidelines set forth in these standards.

Darrin A. King,
Acting Departmental Clearance Officer.

[FR Doc. E6-20483 Filed 12-4-06; 8:45 am]

BILLING CODE 4510-43-P